ENVIRONMENTAL PROTECTION AGENCY

[FRL-8045-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1613.02; Data Reporting Requirements for State and Local Vehicle Emission Inspection and Maintenance (I/M) Programs (Reinstatement); in 40 CFR part 51, subpart S; was approved February 22, 2006; OMB Number 2060-0252; expires February 28, 2009.

EPA ICR No. 1852.03; Exclusion Determinations for New Non-road Spark-ignited Engines at or Below 19 Kilowatts, New Non-road Compression-ignited Engines, New Marine Engines, and New On-road Heavy Duty Engines (Renewal); in 40 CFR part 85, subpart R; 40 CFR part 89, subpart A; 40 CFR part 90, subpart J; 40 CFR part 91, subpart K; was approved February 22, 2006; OMB Number 2060-0395; expires February 28, 2009.

EPA ICR No. 2186.01; National Emissions Standards for Hazardous Air Pollutants from Plating and Polishing Operations; was approved February 22, 2006; OMB Number 2060-0577; expires February 28, 2009.

EPA ICR No. 1801.04; NESHAP for Portland Cement (Renewal); in 40 CFR part 63, subpart LLL; was approved February 22, 2006; OMB Number 2060-0416; expires February 28, 2009.

EPA ICR No. 1867.03; Voluntary Aluminum Industrial Partnership (VAIP) (Renewal); was approved February 17, 2006; OMB Number 2060-0411; expires February 28, 2009.

EPA ICR No. 1856.05; NESHAP for Primary Lead Smelters (Renewal); in 40 CFR part 63, subpart TTT); was approved February 10, 2006; OMB Number 2060-0414; expires February 28, 2009.

EPA ICR No. 0983.08; NSPS for Equipment Leaks of VOC in Petroleum Refineries (Renewal); in 40 CFR part 60, subpart GGG; was approved February 14, 2006; OMB Number 2060-0067; expires February 28, 2009.

EPA ICR No. 1060.13; NSPS for Steel Plants; Electric Arc Furnaces and Argon-Oxygen Decarburization Vessels (Final Rule Amendments); in 40 CFR part 60, subparts AA and AAa); was approved February 10, 2006; OMB Number 2060-0038; expires November 30, 2006.

EPA ICR No. 1821.05; NESHAP for Steel Pickling (Renewal); in 40 CFR part 63, subpart CCC); was approved February 10, 2006; OMB Number 2060-0419; expires February 28, 2009.

EPA ICR No. 1363.14; Toxic Chemical Release Reporting (Form R) (Renewal); in 40 CFR part 372; was approved March 3, 2006; OMB Number 2070-0093; expires January 31, 2008.

EPA ICR No. 1704.08; Toxic Chemical Release Reporting, Alternate Threshold for Low Annual Reportable Amounts (Form A) (Renewal); in 40 CFR part 372; was approved March 3, 2006; OMB Number 2070-0143; expires January 31, 2008.

EPA ICR No. 1871.04; NESHAP for Source Categories (Renewal); Generic Maximum Achievable Control Technology Standards; in 40 CFR part 63, subpart YY; was approved March 3, 2006; OMB Number 2060-0420; expires March 31, 2009.

EPA ICR No. 0660.09; NSPS for Metal Coil Surface Coating (Renewal); in 40 CFR part 60, subpart TT; was approved February 17, 2006; OMB Number 2060-0107; expires February 28, 2009.

EPA ICR No. 1788.06; NESHAP for Oil and Natural Gas Production (Renewal); in 40 CFR part 63, subpart HH; was approved March 3, 2006; OMB Number 2060-0417; expires March 31, 2009.

EPA ICR No. 2163.02; NSPS: Other Solid Waste Incineration (OSWI) Units (Final Rule); in 40 CFR part 60, subpart EEEE; was approved March 6, 2006; OMB Number 2060-0563; expires March 31, 2009.

EPA ICR No. 2164.02; Emission Guidelines for Existing Other Solid Waste Incineration (OSWI) Units (Final Rule); in 40 CFR part 60, subpart FFFF; was approved March 6, 2006; OMB Number 2060-0562; expires March 31, 2009.

EPA ICR No. 1591.16; Regulation of Fuels and Fuel Additives (Direct Final and Proposed Rules for Butane and Attest Engagements); was approved March 6, 2006; OMB Number 2060-0277; expires October 31, 2007.

EPA ICR No. 1964.03; NESHAP for Wet-formed Fiberglass Mat Production (Renewal); in 40 CFR part 63, subpart HHHH; was approved March 6, 2006; OMB Number 2060-0496; expires March 31, 2009.

EPA ICR No. 2180.02; Recordkeeping and Reporting for the Performance-Based Qualification of Test Methods for Diesel Fuel (Renewal); in 40 CFR 80.29; 40 CFR 80.240; 40 CFR 80.530-80.532; 40 CFR 80.535-80.536; 40 CFR 80.550-80.555; 40 CFR 80.560-80.561; 40 CFR 80.590-80.594; 40 CFR 80.597; 40 CFR 80.600-80.604; 40 CFR 80.607; 40 CFR 80.620; was approved March 6, 2006; OMB Number 2060-0566; expires March 31, 2009.

Short Term Extensions

EPA ICR No. 0575.09; Health and Safety Data Reporting; Submission of Lists and Copies of Health and Safety Studies; OMB Number 2070-0004; on February 22, 2006 OMB extended the expiration date to May 31, 2006.

Comment Filed

EPA ICR No. 0783.48; Fuel Economy Labeling of Motor Vehicles (Proposed Rule); OMB Number 2060-0104; OMB filed comments on March 6, 2006.

Dated: March 8, 2006.
Oscar Morales,
Director, Collection Strategies Division.

[FR Doc. E6-3814 Filed 3-15-06; 8:45 am]

BILLING CODE 6560-50-P